DEPARTMENT OF COMMERCE

National Oceanic and Atmospheric Administration

50 CFR Part 216

[I.D. 080299B]

RIN 0648-AH26

Protected Species Special Exception Permits; Extension of Comment Period

AGENCY: National Marine Fisheries Service (NMFS), National Oceanic and Atmospheric Administration (NOAA), Commerce.

ACTION: Proposed rule and extension of public comment period.

SUMMARY: NMFS is extending the public comment period on the proposed rule amending the regulations for permits to capture or import marine mammals for purposes of public display under the Marine Mammal Protection Act of 1972 (MMPA).

DATES: Comments on this proposed rule must be received or postmarked no later than November 2, 2001.

ADDRESSES: Comments on this proposed rule may be mailed to the National Marine Fisheries Service, Office of Protected Resources, Permits Division (F/PR1), 1315 East-West Highway, Rm. 13705, Silver Spring, MD 20910, or may be submitted by facsimile to (301) 713-0376. Please note that comments will not be accepted by e-mail or by other electronic media.

FOR FURTHER INFORMATION CONTACT: Ann Terbush or Eugene Nitta, National Marine Fisheries Service, Office of Protected Resources, Permits Division (301/713-2289).

SUPPLEMENTARY INFORMATION:

Background

On July 3, 2001 (66 FR 35209), NMFS published a proposed rule to revise the regulations for permits to capture or import marine mammals for public display under the Marine Mammal Protection Act of 1972, as amended (MMPA). In implementing the 1994 Amendments to the MMPA that affect marine mammals held captive for public display, the proposed regulations would clarify the public display requirements relating to permits to capture or import, transport or transfer of marine mammals, and export of marine mammals.

Dated: August 15, 2001.
John Oliver,
Acting Assistant Administrator for Fisheries, National Marine Fisheries Service.

[FR Doc. 01-21091 Filed 8-21-01; 8:45 am]

BILLING CODE 3510-22-S